DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 29, 2016 through May 20, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of section 222(a)(2)(A) (increased imports) of the Trade Act have been met.

TA-W No. | Subject firm | Location | Impact date
90,066 | Guardian Industries Corp., Floreffe Facility, Aerotek Staffing, Allegiance, Express Employment | Jefferson Hills, PA | January 1, 2014.
90,081 | Johnson Crushers International, Inc., Astec Industries, Inc., Staffing Partners | Eugene, OR | January 1, 2014.
90,249 | Atlas Tube, JMC Steel Group | Blytheville, AR | January 1, 2014.
90,302 | Interfor, Inc., Interfor Corporation, Gliss General Labor & Industry | Molalla, OR | January 1, 2014.
91,136 | FiberMark North America, Inc., Crocker Technical Papers, Neenah Paper, Inc | Fitchburg, MA | November 13, 2014.
91,176 | Tronox Worldwide LLC | Hamilton, MS | November 19, 2014.
91,353 | Chemours Chemical Company, Titanium Technologies, The Chemours Company, KBR, KBR Design, etc | Edge Moor, DE | January 18, 2015.
91,460 | Cascade Steel Rolling Mills, Inc., Schnitzer Steel Industries, Inc., Express Employment Professionals | McMinnville, OR | February 11, 2015.
91,496 | Rough and Ready Lumber LLC | Cave Junction, OR | June 1, 2015.
91,510 | ArcelorMittal Plate LLC, Conshohocken Division, ArcelorMittal USA LLC, Adecco, BSI, etc | Conshohocken, PA | February 4, 2015.
91,532 | Ingersoll Rand, Compression Technologies and Services, Strom Engineering, etc | Cheektowaga, NY | March 1, 2015.
91,672 | Connor Manufacturing Services, Inc., Express Employment Professionals and Cody Staffing | Fairview, OR | April 6, 2015.

The following certifications have been issued. The requirements of Section 222(a)(2)(B) (shift in production or services) of the Trade Act have been met.

TA-W No. | Subject firm | Location | Impact date
85,373 | GE Industrial Solutions Service Engineering Organization | Plainville, CT | June 11, 2013.
90,001 | Midland Credit Management, San Diego Call Center, Encore Capital Group | San Diego, CA | January 1, 2014.
90,153 | Ericsson, Inc., Service Assurance, Apeiron, Apex Systems, The Ash Group, etc | Overland Park, KS | January 1, 2014.
90,153A | Ericsson, Inc., Fulfillment & Provisioning, Apeiron, Apex Systems, The Ash Group, etc | Overland Park, KS | January 1, 2014.
90,153B | Ericsson, Inc., Processes, Systems, Tools & Methods (PST&M), Apeiron, Apex Systems, etc | Overland Park, KS | January 1, 2014.
90,182 | Convergys Corporation | Wichita, KS | January 1, 2014.
91,069 | SuperValu, Inc., Finance Shared Service Division | Boise, ID | October 22, 2014.
91,123 | 3M Brookville, Abrasives Division, 3M, Volt | Brookville, OH | November 5, 2014.
91,133 | Verizon Corporate Resources Group, LLC, Order Management | San Antonio, TX | November 11, 2014.
91,133A | Verizon Business Networks Services, Inc., Senior Analyst-Order Management, Voice Over Internet Protocol, etc | San Antonio, TX | January 19, 2015.
91,135 | ShopKo Stores Operating Co., LLC, Merchandise Support and Supply Chain Departments, SKO Group, etc | Green Bay, WI | November 12, 2014.
91,139 | Leggett & Platt Springs Manufacturing, LLC, Leggett & Platt, Inc., Aerotek | Colorado Springs, CO | November 13, 2014.
91,149 | Time Customer Service, Inc., Information Technology Department, Time, Inc | Tampa, FL | November 17, 2014.
91,186 | Daikin Applied Americas, Inc., Commercial HVAC Equipment Manufacturer Div., ISSI Technology Professionals | Auburn, NY | December 28, 2015.
91,223 | Maquet Cardiovascular, Vascular Interventions Division, Paramount Staffing | Wayne, NJ | December 14, 2014.
91,246 | Carlisle Industrial Brake & Friction, Carlisle Brake and Friction, Adecco and Employment Plus | Bloomington, IN | December 1, 2014.
91,247 | ESCO Corporation, Madden Industrial Craftsmen, Inc. and Aerotek Staffing | Portland, OR | December 16, 2014.
91,261 | New York Life Insurance Company, Technology and Finance, Asset Staffing, Collabera, Custom Staffing, etc | Sleepy Hollow, NY | December 11, 2014.
91,282 | ALM Media LLC, National Underwriter Company, Finance, Customer Service, etc | Erlanger, KY | July 24, 2015.
91,286 | Zodiac Pool Systems, Inc., Aerotek | Vista, CA | January 5, 2015.
91,309 | Quadion LLC, Quadion Holdings LLC | Watertown, SD | January 16, 2016.
91,309A | Quadion LLC, Quadion Holdings LLC, Celarity | Plymouth, MN | January 7, 2015.
91,323 | Leggett & Platt Spring Manufacturing, LLC, Leggett & Platt, Inc | Delano, PA | January 8, 2015.
91,340 | Newmont Mining Corporation, IT, Supply Chain, Human Resources, and Financial Services, etc | Greenwood Village, CO | January 12, 2015.
91,350 | TE Connectivity, Aerospace, Defense and Marine Division | Mount Joy, PA | January 14, 2015.
91,378 | Alcoa, Inc., Global Primary Products Division, CCC Group Inc., Feguson Enterprises, etc | Point Comfort, TX | January 25, 2015.
91,383 | MSSL Wiring System, Inc., Stoneridge, Inc., Motherson | Warren, OH | February 5, 2015.
91,383A | Adecco Staffing, MSSL Wiring System, Inc., Stoneridge, Inc., Motherson | Warren, OH | January 22, 2015.
91,389 | Cambia Health Solutions, Claims Processing and Sales Department | Medford, OR | January 26, 2015.
91,389A | Virtual Communication, Cambia Health Solutions, Claims Processing and Sales Department | Medford, OR | January 26, 2015.
91,396 | Southern Graphic Systems LLC, SGS—Battle Creek Division | Battle Creek, MI | January 27, 2015.
91,471 | Flowserve Corporation, Adecco Staffing | Dayton, OH | February 16, 2015.
91,494 | Thorco Industries LLC, Marmon Group/Berkshire Hathaway, Penmac Staffing Services | Lamar, MO | February 19, 2015.
91,499 | Saginaw Machine Systems, Inc., SMS Holding Co. Inc., RPM Industrial, Ray Beebe, ITH Staffing, etc | Saginaw, MI | February 22, 2015.
91,531 | Royal Appliance Manufacturing Company, TTI Floor Care N.A | North Canton, OH | March 1, 2015.
91,544 | BKFS I Services, LLC, Data & Analytics, Black Knight Financial Services, Appleone Employment, etc | Glendale, CA | March 3, 2015.
91,570 | EigenLight Corporation, Neophotonics Corporation, Adecco | Somersworth, NH | February 25, 2015.
91,576 | URS Corporation, A Nevada Corporation, IPREP Group, Aecom, Accountemps | Austin, TX | March 10, 2015.
91,578 | QBE Americas, Inc., QBE Holdings, Inc | Eden Prairie, MN | March 10, 2015.
91,580 | The Bank of New York Mellon, The Bank of New York Mellon Corporation, Information Technology, etc | Syracuse, NY | March 5, 2015.
91,592 | Hewlett Packard Enterprise, ES Applications Delivery Management Services Division | North Quincy, MA | March 14, 2015.
91,605 | StatCorp Medical, Spacelabs Healthcare, OSI Systems, Inc., Adecco, Trueblue, etc | Jacksonville, FL | March 17, 2015.
91,609 | Kim Lighting, Hubbell Lighting, Inc., Select Staffing | City of Industry, CA | March 18, 2015.
91,614 | Littelfuse, Inc., ABU/CVP Division, Robert Half Technology | Boston, MA | March 21, 2015.
91,633 | Maersk Agency USA, Inc., Marine Operations Division | Charlotte, NC | March 25, 2015.
91,650 | LCC International, Inc., TechMahindra | Overlook Park, KS | March 31, 2015.
91,651 | DME Co., LLC, Milacron, LLC, Accounts Payable Division | Madison Heights, MI | March 31, 2015.
91,654 | WKW Roof Rail Systems, LLC, WKW-Erbsloeh Automotive, Inc., Aeroteck, Manpower | Battle Creek, MI | March 31, 2015.
91,657 | Hewlett Packard Enterprise, ES ITO Midrange Delivery | Tulsa, OK | April 1, 2015.
91,667 | Standard Motor Products, Inc., Temperature Control Division, Regal Temporary Services, Inc., etc | Grapevine, TX | April 5, 2015.
91,671 | DB Schenker, AXO Temporary Staffing, Select Staffing | El Paso, TX | April 6, 2015.
91,674 | Xerox HR Solutions, LLP, Human Capital Services Division, Xerox Business Services, LLC | Cherry Hill, NJ | April 6, 2015.
91,675 | Toys″R″Us—Delaware, Inc., Ajilon Finance, Amerit Consulting, Inc., Creative Circle, LLC, etc | Wayne, NJ | April 6, 2015.
91,676 | Talentwise, A SterlingBackcheck Company, MRI Network Contract Staffing, etc | Winchester, VA | April 6, 2015.
91,680 | Ketchum, Inc., Omnicom Group, Inc., Finance Department | Pittsburgh, PA | April 8, 2015.
91,682 | Recreational Equipment Inc. (REI), IT Operations Services, Apex Systems | Kent, WA | April 9, 2015.
91,684 | Abbott Laboratories, Global Information Services Division, Apex Systems, Inc, etc | Abbott Park, IL | April 11, 2015.
91,685 | Sulzer Pumps (US), Inc., Pumps Equipment, Staffing Partners, Opti Staffing, etc | Portland, OR | April 11, 2015.
91,693 | Hudson Clothing, LLC, DBG Corporation, Warehouse Division | Commerce, CA | April 12, 2015.
91,694 | Transtector Systems, Smiths Microwave Telecoms Division, Humanix and Express Employment, etc | Hayden, ID | April 12, 2015.
91,697 | Oracle America, Inc., Oracle Corporation, J.D. Edwards Development Division | Denver, CO | April 13, 2015.
91,703 | Polar Tank Trailer, American Industrial Partners | Springfield, MO | April 13, 2015.
91,708 | Cambridge Metals & Plastics, Water Works Manufacturing, Aerotek, Avenue Staffing, etc | Cambridge, MN | April 14, 2015.
91,720 | Caterpillar Track Components, Industrial Solutions, Components and Distribution (ISCD), Necso, etc | Danville, KY | February 15, 2015.
91,722 | Labinal, LLC, Safran USA, Inc., Aerotek | Everett, WA | April 20, 2015.
91,729 | ACI Worldwide Corporation, ACI Worldwide, Inc., KBACE, Tallgrass Technologies, Ernst & Young, etc | Elkhorn, NE | April 22, 2015.
91,730 | Assembled Products, Inc., Jason Incorporated, Accurate Personnel Services, Quality Labor, etc | Buffalo Grove, IL | April 22, 2015.
91,737 | Alex Apparel Group Inc., Pay2Staff LLC | New York, NY | April 25, 2015.
91,739 | The L.S. Starrett Company, Workforce Unlimited | Mount Airy, NC | April 22, 2015.
91,781 | Magnetics Division of Spang & Company, Magnetics Division, Spang & Company | East Butler, PA | January 15, 2016.
91,781A | Magnetics Division of Spang & Company, Magnetics Division, Spang & Company | Pittsburgh, PA | January 15, 2016.

The following certifications have been issued. The requirements of Section 222(b) (supplier to a firm whose workers are certified eligible to apply for TAA) of the Trade Act have been met.

TA-W No. | Subject firm | Location | Impact date
91,210 | General Security Services Corporation | Minneapolis, MN | December 9, 2014.
91,252 | Joy Global Suface Mining, Inc., Joy Global, Inc., Worldwide Labor Support, Inc., Manpower, etc | Virginia, MN | December 21, 2014.
91,277 | Hammerlund Construction, Inc | Grand Rapids, MN | December 31, 2014.
91,345 | Champion Charter Sales & Service, Gundlach Champion, Inc | Hibbing, MN | January 14, 2015.
91,438 | Neovia Logistics, Randstad, Laser Spot Inc., and G4S | Normal, IL | February 4, 2015.
91,493 | Matric Limited, Matric Group LLC | Seneca, PA | February 22, 2016.
91,493A | Leased Workers from Career Concepts, Matric Limited | Seneca, PA | February 19, 2015.
91,530 | Progress Metal Reclamation Company, Recycling Division, Caterpillar, Inc | Ashland, KY | March 1, 2015.
91,585 | Zeigler Inc., Mining Division | Buhl, MN | March 11, 2015.
91,599 | Range Steel Fabricators, Inc | Hibbing, MN | March 15, 2015.
91,603 | SSSI, Inc., d/b/a Songer Steel Services, Inc., Kforce | Washington, PA | March 16, 2015.
91,696 | Jasper Engineering & Equipment Company | Hibbing, MN | April 13, 2015.
91,706 | General Fasteners Company | Riverton, IA | April 14, 2015.
91,726 | Chemtrade Performance Chemical LLC, Chemtrade Logistics | Kalama, WA | April 21, 2015.

The following certifications have been issued. The requirements of Section 222(b) (downstream producer for a firm whose workers are certified eligible to apply for TAA) of the Trade Act have been met.

TA-W No. | Subject firm | Location | Impact date
91,695 | Galey and Lord LLC, Patriarch Partners | Society Hill, SC | April 12, 2015.
91,698 | Texas & Northern Railroad Company, Transtar, Inc | Lone Star, TX | April 13, 2015.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
90,171 | Hewlett Packard Enterprise Services, Hewlett-Packard Company, Enterprise Services, etc | Vancouver, WA
90,310 | Hewlett Packard, Treasury Group, Credit and Collections Division | Colorado Springs, CO
91,328 | Diamond Bar Outdoors, Administrative Services, Nova Lifestyle | Commerce, CA
91,356 | Paul Ecke Ranch | Encinitas, CA
91,553 | Bank of America, Global Engagement Team, Process Governance and Controls Team, etc | Charlotte, NC
91,558 | Continental Casualty Company, Special Funds Unit | Syracuse, NY
91,568 | Hewlett Packard Enterprise, Engineering Group, Storage Division, Utility Development Unit, etc | Colorado Springs, CO
91,643 | Ethnotek, LLC | Eagan, MN

The investigation revealed that the criteria under paragraphs (a)(2)(A)(i) (decline in sales or production, or both) and (a)(2)(B) (shift in production or services to a foreign country) of section 222 have not been met.

TA-W No. | Subject firm | Location | Impact date
90,183 | Milestone AV Technologies | Wichita, KS
90,215 | Chase Industries Inc., Chem-Pruf Division, Express Employment Professionals | Brownsville, TX
91,073 | Imperial Sugar Company, Imperial-Savannah LP, Louis Dreyfus Commodities LLC, etc | Gramercy, LA
91,272 | L-3 Communications Integrated Systems, L.P., C3 ISR Division, L-3 Communications Corporation | Beale Air Force Base, CA
91,534 | EVRAZ Oregon Steel, EVRAZ Oregon Steel Tubular Division, EVRAZ Inc. NA, etc | Portland, OR
91,686 | Custom Stamping and MFG. Co | Portland, OR

The investigation revealed that the criteria under paragraphs (a)(2)(A) (increased imports) and (a)(2)(B) (shift in production or services to a foreign country) of section 222 have not been met.

TA-W No. | Subject firm | Location | Impact date
90,337 | Wilson Trailer Company | Sioux City, IA
91,036 | Halliburton Energy Services | Duncan, OK
91,096 | EC Manufacturing, LLC, Aerotek, Pro Staff, Grafton Staffing Company | Shawnee, KS
91,141 | U.S. Security Associates, U.S. Security Holdings, Inc | Courtland, AL
91,170 | Enovation Controls, LLC, Key Personnel | Tulsa, OK
91,183 | Baker Hughes Incorporated, Artificial Lift Division, Kelly Temporary Services | Tulsa, OK
91,263 | Halliburton Energy Services, Wireline Operations | Montgomery, PA
91,264 | Shenango Incorporated, DTE Energy Services, Steel City and Safety Supply, MK Technologies, etc | Pittsburgh, PA
91,273 | The Boeing Company, Vertical Lift Division, American Cybersystems, Apex Systems, etc | Ridley Park, PA
91,384 | Norfolk Southern Railway Company, Ashtabula Coal Dock | Ashtabula, OH
91,408 | Michigan South Central Power Agency, Endicott Generating Station, Mapower | Litchfield, MI
91,450 | SuperValu Inc., Infrastructure Services Group | Boise, ID
91,524 | Cameron International Corporation, Valves and Measurement Division, Micro-Tech Staffing | Millbury, MA
91,658 | Coyne International Enterprises Corporation, Coyne Textile Services | Syracuse, NY
91,688 | Ceres Crystal Industries, Inc., Coastal Staffing, Durham Staffing | Niagara Falls, NY
91,764 | QVC St. Lucie, Inc., QVC, Inc | Port Saint Lucie, FL

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,048 | Seventy Seven Energy Inc | Oklahoma City, OK
91,220 | Crisp Manufacturing Co., Inc | Rural Retreat, VA
91,229 | American Process, Inc., Star Staff | Alpena, MI
91,236 | IAC Acoustics, fka GT Exhaust, IAC Acoustics, Aurstaff, Express, Celebrity, and Aerotek | Lincoln, NE
91,236A | IAC Acoustics, fka Maxim Silencers, IAC Acoustics | Stafford, TX
91,371 | Rivergate Scrap Metals, Bors, Inc., TCMI, Inc., OPTI Staffing | Portland, OR
91,437 | Hoquiam Plywood Products | Hoquiam, WA
91,560 | General Cable, General Cable Corporation, Staffmark | Malvern, AR
91,719 | American Light Bulb MFG | Mullins, SC
91,733 | H.C. Haynes Inc | Winn, ME
91,779 | MTE Corporation | Menomonee Falls, WI

The following determinations terminating investigations were issued because the petitioning groups of workers are covered by active certifications. Consequently, further investigation in these cases would serve no purpose since the petitioning group of workers cannot be covered by more than one certification at a time.

TA-W No. | Subject firm | Location | Impact date
90,323 | Hewlett Packard Enterprise Services, Hewlett Packard Enterprise, Midrange Server Services Division | Plano, TX
90,332 | LexisNexis, Aelpo Team, Matthew Bender, Populus Group, Linium Consulting | Albany, NY
91,281 | CareFusion Resources, LLC, Vital Signs, Inc. Division, Carefusion Corporation | Englewood, CO
91,409 | Southern Graphic Systems LLC | Battle Creek, MI
91,647 | Ingersoll Rand, Compression Technologies and Services Division | Cheektowaga, NY
91,780 | Newmont Mining Corporation, IT, Supply Chain, Human Resources, and Financial Services, etc | Greenwood Village, CO

I hereby certify that the aforementioned determinations were issued during the period of April 29, 2016 through May 20, 2016. These determinations are available on the Department's Web site https://www.doleta.gov/tradeact/taa/taa_search_form.cfm under the searchable listing of determinations or by calling the Office of Trade Adjustment Assistance toll free at 888-365-6822.

Signed at Washington, DC, this 24th day of May 2016.
Jessica R. Webster,
Certifying Officer, Office of Trade Adjustment Assistance.

[FR Doc. 2016-13343 Filed 6-6-16; 8:45 am]

BILLING CODE 4510-FN-P